Title 3—

The President

Proclamation 7440 of May 17, 2001

National Safe Boating Week, 2001

By the President of the United States of America

A Proclamation

Over 70 million recreational boaters enjoy our Nation's waters, and the national economic impact of recreational boating is more than $25 billion each year. This year marks the 30th anniversary of the enactment of the Federal Boat Safety Act. This legislation, designed to improve boating safety and to foster greater use and enjoyment of our rivers, lakes, bays, and waters, has accomplished these goals. By encouraging the participation of States, local communities, industry, and the boating public, new generations of Americans have benefited from the development of comprehensive boating safety programs.

Two years after passage of the Federal Boat Safety Act of 1971, 1,754 recreational boating fatalities were reported, on a base of approximately 6 million recreational vessels registered. Since then, the number of registered boats has grown by over 100 percent, yet reported boating fatalities have declined to approximately 750-800 each year.

The coordinated efforts over the past 29 years of the Federal Government, including the Coast Guard and the Coast Guard Auxiliary, States and local communities, and numerous recreational boating organizations, have made the Recreational Boating Safety Program a success. Cumulatively, an estimated 27,000 lives are estimated to have been saved as a result of the recreational boating safety programs established by the Federal Boat Safety Act.

However, despite these programs' successes, too many boaters still die on our Nation's waters. Recreational boating remains second only to highways in transportation-related fatalities. Some boaters lack basic boating safety knowledge and fail to adequately prepare or exercise caution when boating. Though recent accident statistics show improvement in many categories, nearly 70 percent of all recreational boating victims die by drowning. Nearly 90 percent of these drowning victims were not wearing a life jacket. Most of those lives could have been saved if the victims had simply worn their life jackets.

This year's North American Safe Boating Campaign, highlighted during National Safe Boating Week, will emphasize the theme of “Boat Smart from the Start! Wear Your Life Jacket!” Many recreational boating organizations promote safety through educational programs, and I encourage those who will be on our waterways to take advantage of these lessons. I also urge all Americans who enjoy boating to wear their life jackets and otherwise to conduct themselves responsibly and safely.

In recognition of the importance of safe boating practices, the Congress, by joint resolution approved June 4, 1958 (36 U.S.C. 131), as amended, has authorized and requested the President to proclaim annually the 7-day period prior to Memorial Day weekend as “National Safe Boating Week.”

NOW, THEREFORE, I, GEORGE W. BUSH, President of the United States of America, by virtue of the authority vested in me by the Constitution and laws of the United States, do hereby proclaim May 19 through May 25, 2001, as National Safe Boating Week. I encourage the Governors of the 50 States, the District of Columbia, the Commonwealth of Puerto Rico, and the officials of other areas subject to the jurisdiction of the United States, to join in observing this occasion and to urge Americans to practice safe boating habits throughout the year.

IN WITNESS WHEREOF, I have hereunto set my hand this seventeenth day of May, in the year of our Lord two thousand one, and of the Independence of the United States of America the two hundred and twenty-fifth.

B

[FR Doc. 01-13056

Filed 5-21-01; 8:45 am]

Billing code 3195-01-P